DEPARTMENT OF ENERGY

Federal Energy Regulatory Commission

Combined Notice of Filings #1

Take notice that the Commission received the following electric corporate filings:

Docket Numbers: EC16-91-000.

Applicants: Summer Solar LLC.

Description: Application for Authorization Under Section 203 of the Federal Power Act, Request for Expedited Consideration and Confidential Treatment of Summer Solar LLC.

Filed Date: 3/22/16.

Accession Number: 20160322-5204.

Comments Due: 5 p.m. ET 4/12/16.

Take notice that the Commission received the following electric rate filings:

Docket Numbers: ER12-60-011; ER10-1632-011; ER10-1628-009; ER10-1624-005; ER10-1617-009; ER10-1597-005; ER10-1594-009; ER10-1585-009.

Applicants: Alabama Electric Marketing, LLC, California Electric Marketing, LLC, Kiowa Power Partners, L.L.C., New Mexico Electric Marketing, LLC, Tenaska Power Management, LLC, Tenaska Power Services Co., Texas Electric Marketing, LLC, Tenaska Gateway Partners, Ltd.

Description: Supplement to December 31, 2015 Updated Market Power Analysis in the Southwest Power Pool region of the Tenaska MBR Sellers.

Filed Date: 3/23/16.

Accession Number: 20160323-5148.

Comments Due: 5 p.m. ET 4/13/16.

Docket Numbers: ER13-102-009.

Applicants: New York Independent System Operator, Inc.

Description: Compliance filing: NYISO compliance filing Order No. 1000 RTPP to be effective 4/1/2016.

Filed Date: 3/22/16.

Accession Number: 20160322-5168.

Comments Due: 5 p.m. ET 4/12/16.

Docket Numbers: ER15-1047-004.

Applicants: R.E. Ginna Nuclear Power Plant, LLC.

Description: Compliance filing: Compliance2 to 134 to be effective 4/1/2015.

Filed Date: 3/23/16.

Accession Number: 20160323-5183.

Comments Due: 5 p.m. ET 4/13/16.

Docket Numbers: ER16-456-002.

Applicants: Baltimore Gas and Electric Company, Potomac Electric Power Company, Delmarva Power & Light Company, Atlantic City Electric Company, PJM Interconnection, L.L.C.

Description: Compliance filing: BGE, Delmarva, et al. submit compliance filing per 2/23/2016 order to be effective 3/8/2016.

Filed Date: 3/23/16.

Accession Number: 20160323-5143.

Comments Due: 5 p.m. ET 4/13/16.

Docket Numbers: ER16-792-001.

Applicants: New Harquahala Generating Company, LLC.

Description: Tariff Amendment: Amendment to New Harquahala Revised MBR Tariff to be effective 3/28/2016.

Filed Date: 3/23/16.

Accession Number: 20160323-5114.

Comments Due: 5 p.m. ET 4/13/16.

Docket Numbers: ER16-793-001.

Applicants: Talen Montana, LLC.

Description: Tariff Amendment: Amendment to Talen Montana Revised MBR Tariff to be effective 3/28/2016.

Filed Date: 3/23/16.

Accession Number: 20160323-5116.

Comments Due: 5 p.m. ET 4/13/16.

Docket Numbers: ER16-795-001.

Applicants: Talen Energy Marketing, LLC.

Description: Tariff Amendment: Amendment to Talen Energy Marketing MBR Tariff to be effective 3/28/2016.

Filed Date: 3/23/16.

Accession Number: 20160323-5115.

Comments Due: 5 p.m. ET 4/13/16.

Docket Numbers: ER16-1259-000.

Applicants: Southwest Power Pool, Inc.

Description: Notice of Cancellation of Letter Agreement (SA 1121) of Southwest Power Pool, Inc.

Filed Date: 3/23/16.

Accession Number: 20160323-5015.

Comments Due: 5 p.m. ET 4/13/16.

Docket Numbers: ER16-1260-000.

Applicants: Southwest Power Pool, Inc.

Description: Notice of Cancellation of Letter Agreement (SA 1287) of Southwest Power Pool, Inc.

Filed Date: 3/23/16.

Accession Number: 20160323-5016.

Comments Due: 5 p.m. ET 4/13/16.

Docket Numbers: ER16-1261-000.

Applicants: Southwest Power Pool, Inc.

Description: § 205(d) Rate Filing: 3186 KCP&L and KEPCO Interconnection Agreement to be effective 3/22/2016.

Filed Date: 3/23/16.

Accession Number: 20160323-5045.

Comments Due: 5 p.m. ET 4/13/16.

Docket Numbers: ER16-1262-000.

Applicants: Midcontinent Independent System Operator, Inc., Montana-Dakota Utilities Co., Division of MDU Resources Inc.

Description: § 205(d) Rate Filing: 2016-03-23_SA 2908 MDU-Basin Electric Facility Sharing Agreement to be effective 1/1/2016.

Filed Date: 3/23/16.

Accession Number: 20160323-5062.

Comments Due: 5 p.m. ET 4/13/16.

Docket Numbers: ER16-1263-000.

Applicants: Southern California Edison Company.

Description: § 205(d) Rate Filing: Amendment to Exhibit A of Distribution Service Agreement with SCE-RAP for CREST to be effective 5/23/2016.

Filed Date: 3/23/16.

Accession Number: 20160323-5117.

Comments Due: 5 p.m. ET 4/13/16.

Docket Numbers: ER16-1264-000.

Applicants: Southern California Edison Company.

Description: § 205(d) Rate Filing: Amended SGIA and Distribution Service Agmt SEPV Mojave West, LLC to be effective 3/24/2016.

Filed Date: 3/23/16.

Accession Number: 20160323-5118.

Comments Due: 5 p.m. ET 4/13/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2016.
Nathaniel J. Davis, Sr.,
Deputy Secretary.

[FR Doc. 2016-07237 Filed 3-30-16; 8:45 am]

BILLING CODE 6717-01-P